DEPARTMENT OF ENERGY

Federal Energy Regulatory Commission

Combined Notice of Filings #1

Take notice that the Commission received the following electric corporate filings:

Docket Numbers: EC13-96-000.

Applicants: Nevada Power Company.

Description: Section 203 Application for Disposition of Jurisdictional Facilities of Nevada Power Company.

Filed Date: 4/22/13.

Accession Number: 20130422-5208.

Comments Due: 5 p.m. ET 5/13/13.

Take notice that the Commission received the following exempt wholesale generator filings:

Docket Numbers: EG13-20-000.

Applicants: Ivanpah Master Holdings, LLC.

Description: Letter of clarification of Ivanpah Master Holdings, LLC.

Filed Date: 4/23/13.

Accession Number: 20130423-5078.

Comments Due: 5 p.m. ET 5/14/13.

Take notice that the Commission received the following electric rate filings:

Docket Numbers: ER10-2763-008; ER10-2732-008; ER10-2733-008; ER10-2734-008; ER10-2736-008; ER10-2737-008; ER10-2741-008; ER10-2749-008; ER10-2752-008; ER12-2492-004; ER12-2493-004; ER12-2494-004; ER12-2495-004; ER12-2496-004.

Applicants: Bangor Hydro Electric Company, Emera Energy Services, Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10.

Description: Notice of Change in Status of Bangor Hydro Electric Company, et al.

Filed Date: 4/22/13.

Accession Number: 20130422-5210.

Comments Due: 5 p.m. ET 5/13/13.

Docket Numbers: ER13-878-001.

Applicants: Southwest Power Pool, Inc.

Description: Compliance Filing in Order No. ER13-878—Attachment AE 1.2.2 to be effective 4/1/2012.

Filed Date: 4/22/13.

Accession Number: 20130422-5129.

Comments Due: 5 p.m. ET 5/13/13.

Docket Numbers: ER13-1069-001.

Applicants: MP2 Energy LLC.

Description: Amendment to be effective 4/23/2013.

Filed Date: 4/23/13.

Accession Number: 20130423-5001.

Comments Due: 5 p.m. ET 5/14/13.

Docket Numbers: ER13-1192-000.

Applicants: Hess Energy Marketing LLC.

Description: Hess Energy Marketing LLC submits Supplement to March 29, 2013 Application for Market-Based Rate Authorization.

Filed Date: 4/23/13.

Accession Number: 20130423-5068.

Comments Due: 5 p.m. ET 5/14/13.

Docket Numbers: ER13-1316-000.

Applicants: Public Service Company of New Mexico.

Description: Navopache Compliance Filing to be effective 4/14/2012.

Filed Date: 4/22/13.

Accession Number: 20130422-5112.

Comments Due: 5 p.m. ET 5/13/13.

Docket Numbers: ER13-1317-000.

Applicants: Entergy Arkansas, Inc.

Description: RSP Agreements to be effective 6/21/2013.

Filed Date: 4/22/13.

Accession Number: 20130422-5122.

Comments Due: 5 p.m. ET 5/13/13.

Docket Numbers: ER13-1318-000.

Applicants: Public Service Company of New Mexico.

Description: WestConnect Regional Transmission Service Agreement to be effective 7/1/2013.

Filed Date: 4/23/13.

Accession Number: 20130423-5002.

Comments Due: 5 p.m. ET 5/14/13.

Docket Numbers: ER13-1319-000.

Applicants: Pacific Gas and Electric Company.

Description: CCSF IA—41st Quarterly Filing of Facilities Agreements to be effective 3/31/2013.

Filed Date: 4/23/13.

Accession Number: 20130423-5004.

Comments Due: 5 p.m. ET 5/14/13.

Docket Numbers: ER13-1320-000.

Applicants: Niagara Mohawk Power Corporation, New York Independent System Operator, Inc.

Description: Niagara Mohawk Power Corporation submits tariff filing per 35.13(a)(2)(iii: SGIA 1988 between Niagara Mohawk and WM Renewable Energy to be effective 6/23/2013.

Filed Date: 4/23/13.

Accession Number: 20130423-5044.

Comments Due: 5 p.m. ET 5/14/13.

Docket Numbers: ER13-1321-000.

Applicants: Midwest Independent Transmission System Operator, Inc.

Description: Midwest Independent Transmission System Operator, Inc. submits tariff filing per 35.13(a)(2)(iii: 04-23-2013 SA 2490 Tower-Embarrass T-T IA to be effective 4/24/2013.

Filed Date: 4/23/13.

Accession Number: 20130423-5131.

Comments Due: 5 p.m. ET 5/14/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 23, 2013.
Nathaniel J. Davis, Sr.,
Deputy Secretary.

[FR Doc. 2013-10090 Filed 4-29-13; 8:45 am].

BILLING CODE 6717-01-P.